DEPARTMENT OF LABOR

Veterans' Employment and Training Service

RIN 1293-AA07

Annual Report From Federal Contractors

AGENCY: Veterans' Employment and Training Service, Department of Labor.

ACTION: Notice; request for comments.

SUMMARY: The Veterans' Employment and Training Service (VETS) is soliciting comments on methodologies for calculating the maximum and minimum number of employees for the Federal Contractor Veterans' Employment Report VETS-100.

DATES: Comments must be received on or before April 8, 2002.

ADDRESSES: Comments should be sent to Norman Lance, Chief, Investigations and Compliance Division, (VETS), by regular mail at the U.S. Department of Labor, Veterans' Employment and Training Service, Federal Contractor Program Comments—Notice, 6101 Stevenson Avenue, Alexandria, VA 22304, or by e-mail at Lance-Norman@dol.gov. Written comments limited to 10 pages or fewer also may be transmitted by facsimile (FAX) at (202) 693-4755. Receipt of submissions, whether by U.S. mail, e-mail or FAX transmittal, will not be acknowledged; however, the sender may request confirmation that a submission has been received, by telephoning VETS at (202) 693-4731 (VOICE), or (800) 670-7008 (TTY/TDD).

FOR FURTHER INFORMATION CONTACT: Norm Lance, Chief, Investigations and Compliance Division, VETS, at (202) 693-4731 or by e-mail at Lance-Norman@dol.gov. Individuals with hearing impairments can call (800) 670-7008 (TTY/TDD).

SUPPLEMENTARY INFORMATION:

Authority: 38 U.S.C. 4212(d).

Background

The Vietnam Era Veterans' Readjustment Assistance Act of 1974, as amended, (VEVRAA) contains affirmative action and reporting requirements for Federal contractors and subcontractors regarding several classes of protected veterans. One VEVRAA requirement is that covered Federal contractors and subcontractors file an annual Federal Contractor Veterans' Employment Report VETS-100 (VETS-100 Report). Prior to 1998 covered contractors were required to show in their VETS-100 report the number of protected veterans in their work force by job category, hiring locations, and number of new hires, including protected veterans hired during the reporting period covered by the report. The amendments to the VETS-100 reporting requirements made by the Veterans Employment Opportunities Act of 1998 (VEOA) included adding the requirement that the maximum number and minimum number of persons employed during the reporting period be included in a VETS-100 Report.

VETS published a Notice of Proposed Rulemaking (65 FR 59684, October 5, 2000) to implement the provisions of the VEOA, including the requirement for reporting the minimum and maximum number of employees. The Notice of Proposed Rulemaking did not contain guidance on how covered contractors were to determine the minimum and maximum number of employees. A commenter asserted that the proposed rule was unclear about when the minimum and maximum number of employees had to be determined, and asked for clarification. To respond to the concerns of the commenter, VETS clarified the regulation language by adding the following language to the final rule:

The minimum and maximum number of employees reportable at each hiring location during the period covered by the report must be determined as follows: Contractors must review payroll records for each of the pay periods included in the report. The minimum number of employees is the total number of employees paid in the payroll period in which the contractor had the fewest number of employees. The maximum number of employees is the total number of employees paid in the payroll period in which the contractor had the greatest number of employees.

This new language was inserted in section 61-250.10(a)(3), and also in section 61-250.11 under the paragraph entitled “Maximum and minimum number of employees.” (66 FR 52004-52005, October 11, 2001).

After publication of the rule, it was brought to the attention of VETS that the revised language might have inadvertently increased the record keeping burden on some contractors because contractors might have difficulty matching up payroll periods, employees, and physical VETS-100 reporting locations in the way contemplated by the final rule. To permit contractors flexibility in how they determine the maximum and minimum number of employees, VETS published an Interim Final Rule (66 FR 65452, December 19, 2001) amending section 61-250.10(a)(3) by withdrawing the above quoted language that specified how contractors were to determine the maximum and minimum number of employees and withdrawing the language quoted above which appears as a paragraph entitled “Maximum and minimum number of employees” under section 61-250.11. The basic statutory requirement to report the maximum and minimum number of employees remains.

In the preamble to the interim final rule, VETS requested comments about the methods covered contractors and subcontractors intend to use to calculate the minimum and maximum number of employees. VETS requested this information in order to gain additional information on which to issue guidance or regulations on methodology(s) for contractors to determine the maximum and minimum number of employees. VETS is concerned that the request for comments solely within the preamble to the interim final rule could be overlooked. Consequently, VETS is publishing today's notice reiterating the request for comments about how to determine the maximum and minimum number of employees.

Specifically, VETS requests comments on the methodology contractors would prefer to use to calculate the minimum and maximum number of employees. Additional information including how a methodology interacts with organizational structure, payroll or pay systems for particular types of employers (e.g., nature of industry, single or multiple establishments), and how employees on extended leave of absence are counted, is solicited. Comments on record keeping burden incurred and other information you feel will clarify the process for determining the maximum and minimum number of employees also are requested. VETS will consider this information when preparing guidance or regulations for contractors' future reporting cycles.

Signed at Washington, DC, this 28th day of February, 2002.
Frederico Juarbe, Jr.,
Assistant Secretary of Labor for Veterans' Employment and Training Service.

[FR Doc. 02-5411 Filed 3-7-02; 8:45 am]

BILLING CODE 4510-79-P